DEPARTMENT OF COMMERCE

National Oceanic and Atmospheric Administration

[RTID 0648-XA831]

Space Weather Advisory Group Meeting

AGENCY: National Oceanic and Atmospheric Administration (NOAA), Commerce.

ACTION: Notice of public meeting.

SUMMARY: The Space Weather Advisory Group (SWAG) will meet for 1 half-day on December 1, 2021.

DATES: The meeting is scheduled as follows: December 1, 2021 from 10 a.m.-2 p.m. Eastern Standard Time (EST).

ADDRESSES: The public meeting will be conducted virtually via webinar. For details on how to connect to the webinar or to submit comments, please contact Jennifer Meehan, National Weather Service; telephone: 301-427-9798; email: jennifer.meehan@noaa.gov.

FOR FURTHER INFORMATION CONTACT: Jennifer Meehan, National Weather Service, NOAA, 1325 East West Highway, Silver Spring, Maryland, 20910; 301-427-9798 or jennifer.meehan@noaa.gov; or visit the SWAG website: https://www.weather.gov/swag.

SUPPLEMENTARY INFORMATION: Pursuant to the Promoting Research and Observations of Space Weather to Improve the Forecasting of Tomorrow (PROSWIFT) Act, 51 U.S.C. 60601 et seq., the Administrator of NOAA and the National Science and Technology Council's Space Weather Operations, Research, and Mitigation Interagency Working Group (interagency working group) established the Space Weather Advisory Group (SWAG) on April 21, 2021. The SWAG is the only Federal Advisory Committee that advises and informs the interest and work of the interagency working group. The SWAG is to receive advice from the academic community, the commercial space weather sector, and nongovernmental space weather end users to carry out the responsibilities of the SWAG set forth in the PROSWIFT Act, 51 U.S.C. 60601 et seq.

The SWAG is directed to advise the interagency working group on the following: Facilitating advances in the space weather enterprise of the United States; improving the ability of the United States to prepare for, mitigate, respond to, and recover from space weather phenomena; enabling the coordination and facilitation of research to operations and operations to research, as described in section 60604(d) of title 51, United States Code; and developing and implementing the integrated strategy under 51 U.S.C. 60601(c), including subsequent updates and reevaluations. The SWAG shall also conduct a comprehensive survey of the needs of users of space weather products to identify the space weather research, observations, forecasting, prediction, and modeling advances required to improve space weather products, as required by 51 U.S.C. 60601(d)(3).

I. Matters To Be Considered

The meeting will be open to the public. During the meeting, the Committee will discuss the PROSWIFT Act, 51 U.S.C. 60601 et seq., directed duties of the SWAG and kick off the required by 51 U.S.C. 60601(d)(3) user survey. The full agenda will be published on the SWAG website. Meeting materials, including work products, will also be available on the SWAG website: https://www.weather.gov/swag.

II. Additional Information and Public Comments

The meeting will be held over one half-day and will be conducted via webinar (for meeting details see ADDRESSES). Please register for the meeting through the website: https://www.weather.gov/swag.

This event is accessible to individuals with disabilities. For all other special accommodation requests, please contact Jennifer.meehan@noaa.gov. This webinar is a NOAA public meeting and will be recorded and transcribed. If you have a public comment, you acknowledge you will be recorded and are aware you can opt out of the meeting. Participation in the meeting constitutes consent to the recording. Both the meeting minutes and presentations will be posted to the SWAG website (https://www.weather.gov/swag). The agenda, speakers and times are subject to change. For updates, please check the SWAG website (https://www.weather.gov/swag).

Public comments directed to the SWAG members and SWAG related topics are encouraged. Individuals or groups who would like to submit advance written comments, please email them to jennifer.meehan@noaa.gov by November 29, 2021 to provide sufficient time for SWAG review. Written comments received after these dates will be distributed to the SWAG but may not be reviewed prior to the meeting date. As time allows, public comments will be read into the public record during the meeting. Advance comments will be collated and posted to the meeting website.

Dated: November 17, 2021.
Michael Farrar,
Director, National Centers for Environmental Prediction, National Weather Service, National Oceanic and Atmospheric Administration.

[FR Doc. 2021-25407 Filed 11-19-21; 8:45 am]

BILLING CODE 3510-KE-P